NATIONAL SCIENCE FOUNDATION

Committee on Equal Opportunities in Science & Engineering; Cancellation of Meeting

AGENCY: National Science Foundation.

ACTION: Notice; cancellation of meeting date.

The National Science Foundation published a notice in the Federal Register June 23, 2025, in FR Doc. 2025-11435 at 90 FR 26618-26619, concerning a meeting of the Committee on Equal Opportunities in Science & Engineering. The meeting scheduled for Thursday, October 30, 2025, at 1 p.m. (ET) is cancelled.

FOR FURTHER INFORMATION CONTACT: Please contact Crystal Robinson crrobins@nsf.gov or 703-292-8687.

Dated: July 9, 2025.
Crystal Robinson,
Committee Management Officer, National Science Foundation.

[FR Doc. 2025-13031 Filed 7-10-25; 8:45 am]

BILLING CODE 7555-01-P